DEPARTMENT OF COMMERCE

National Oceanic and Atmospheric Administration

50 CFR Part 648

[Docket No. 180205126-8126-01]

RIN 0648-BH66

Control Date for the Northeast Multispecies Charter/Party Fishery; Northeast Multispecies Fishery Management Plan

AGENCY: National Marine Fisheries Service (NMFS), National Oceanic and Atmospheric Administration (NOAA), Commerce.

ACTION: Advance notice of proposed rulemaking (ANPR); request for comments.

SUMMARY: This notice announces a new control date that may be used to determine future participation in the Northeast multispecies charter/party fishery. This notice is necessary to inform interested parties that the New England Fishery Management Council is considering a future action that may affect or limit the number of participants in this fishery and that participants should locate and preserve all fishing related documents. The control date is intended to discourage speculative entry or fishing activity in the Northeast multispecies charter/party fishery while the Council considers how participation in the fishery may be affected.

DATES: March 19, 2018, shall be known as the “control date” for the Northeast multispecies charter/party fishery. Written comments must be received on or before April 18, 2018.

ADDRESSES: You may submit comments on this document, identified by NOAA-NMFS-2018-0042 by any of the following methods:

Electronic Submission: Submit all electronic public comments via the Federal e-Rulemaking Portal. Go to www.regulations.gov/#!docketDetail;D=[NOAA-NMFS-2018-0042], click the “Comment Now!” icon, complete the required fields, and enter or attach your comments.

Mail: Submit written comments to Michael Pentony, Regional Administrator, National Marine Fisheries Service, 55 Great Republic Drive, Gloucester, MA 01930. Mark the outside of the envelope, “Comments on Northeast Multispecies Charter/Party Control Date.”

Fax: (978) 281-9135; Attn: Spencer Talmage.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Spencer Talmage, Fishery Management Specialist, 978-281-9232.

SUPPLEMENTARY INFORMATION: This notification establishes March 19, 2018, as the new control date for potential use in determining historical or traditional participation in the charter/party groundfish fishery. Interested participants should locate and preserve all records that substantiate and verify their participation in the charter/party groundfish fishery. Consideration of a control date does not commit the Council to develop any particular management regime or criteria for participation in the fishery. Any action to develop a limited access program for the charter/party fishery would require a change to the FMP and would be considered through the normal Council process, including rulemaking, that would allow additional opportunities for public comment.

The New England Fishery Management Council first established a control date of March 30, 2006, for the Northeast multispecies (groundfish) charter/party fishery (71 FR 16111). At the time, members of the charter/party industry and the Council's Recreational Advisory Panel recommended that the Council restrict new entrants to the fishery to reduce the need for further restrictions on the recreational catch of groundfish. In 2010, the Council requested that we publish a subsequent Advance Notice of Proposed Rulemaking (ANPR) to reaffirm the original control date (75 FR 57249; September 20, 2010). Participants in the recreational fishery were concerned that the number of charter/party operators would increase substantially due to the implementation of Amendment 16 to the Northeast Multispecies Fishery Management Plan (FMP). Amendment 16 implemented large-scale changes for the fishery, including annual catch limits and accountability measures and an expanded the sector management program. The charter/party fishery includes vessels with open access charter/party permits as well as vessels issued a limited access groundfish permit, while not on a groundfish day-at-sea or fishing under the sector management program. The Council has not yet taken action to restrict entrants or participants in the charter/party fishery.

For 2018, the Council included a multi-year priority to scope for the development of a limited entry program for the charter/party fishery. In light of this priority, the Council voted on January 31, 2018, to revise the control date. The Council requested that we establish a new control date as the date of publication of this Advanced Notice of Proposed Rulemaking. Because conditions and issues in the recreational groundfish fishery have changed considerably over the past 10 years, the Council determined this new control date is a more useful indicator of recent activity in the fishery. This action notifies the public and fishery participants of possible rulemaking, and that the Council is considering future action that may limit the number of or otherwise affect participants in the fishery.

The control date is intended to discourage speculative entry, investment, or fishing activity in the charter/party fishery while the Council considers if and how participation in the fishery may be affected. The Council may use this control date for entry or participation qualification, along with additional criteria. Performance or fishing effort after the date of publication may not be treated the same as performance or effort before the control date. The Council may choose to use different qualification criteria that do not incorporate the new control date. The Council may also choose to take no further action to control entry or access to the charter/party groundfish fishery.

Authority: 16 U.S.C. 1801 et seq.

Dated: March 14, 2018.
Samuel D. Rauch, III,
Deputy Assistant Administrator for Regulatory Programs, National Marine Fisheries Service.

[FR Doc. 2018-05505 Filed 3-16-18; 8:45 am]

BILLING CODE 3510-22-P